DEPARTMENT OF HEALTH AND HUMAN SERVICES

Office of Refugee Resettlement

[C.F.D.A. Numbers: 93.566 and 93.584]

Notice of Change in Notification of Refugee Social Services and Targeted Assistance Formula Grant Allocations

AGENCY: Office of Refugee Resettlement, ACF, HHS.

ACTION: Notification of change.

SUMMARY: The Office of Refugee Resettlement, Administration for Children and Families (ACF), is changing the notification to States and Wilson/Fish Alternative Project grantees of final Social Services and Targeted Assistance formula grant awards. Under these two programs, formula grants are allotted to States based on the eligible population in each State. States and Wilson/Fish Alternative Project grantees use the grant awards to provide employment and other resettlement services to refugees, Amerasians, asylees, Cuban and Haitian entrants, victims of trafficking, and Iraqis and Afghans with Special Immigrant Visas.

Sections 412(c)(1)(B) and 412(c)(2)(A) of the Immigration and Nationality Act do not require applications for the Social Services and Targeted Assistance formula grant programs. ORR has the discretion to alter the process by which States and Wilson/Fish Alternative Project grantees are notified of their annual allocations. Therefore, in an effort to streamline the process, an annual Funding Opportunity Announcement (FOA) will no longer be published. Instead, in addition to annual publication of a notice in the Federal Register, ORR will now also post tables of the allocations and the population figures used to calculate the award amount on the ORR Web site. In addition, official notification of awards will be provided to States and Wilson/Fish Alternative Project grantees by ACF's Division of Mandatory Grants.

DATES: This change is effective immediately.

FOR FURTHER INFORMATION CONTACT: Henley Portner, Office of the Director, Office of Refugee Resettlement, (202) 401-5363, Henley.Portner@acf.hhs.gov.

Statutory Authority: Sections 412(c)(1)(B) and 412(c)(2)(A) of the Immigration and Nationality Act (INA) (8 U.S.C. 1522(c)(1)(B) and (c)(2)(A)).

Eskinder Negash,
Director, Office of Refugee Resettlement.

[FR Doc. 2012-20798 Filed 8-22-12; 8:45 am]

BILLING CODE 4184-46-P